DEPARTMENT OF DEFENSE

Department of the Navy

Reopening of Public Comment Period for the Draft Environmental Impact Statement/Legislative Environmental Impact Statement for Renewal of Naval Air Weapons Station China Lake Public Land Withdrawal, California

AGENCY: Department of the Navy, DoD.

ACTION: Notice.

SUMMARY: Pursuant to Section 102(2)(c) of the National Environmental Policy Act of 1969 and regulations implemented by the Council on Environmental Quality (40 Code of Federal Regulations (CFR) parts 1500-1508), and in accordance with the requirements of the California Military Lands Withdrawal and Overflights Act of 1994 (Pub. L. 103-433, part of the California Desert Protection Act), the Department of the Navy (DoN) prepared and filed with the U.S. Environmental Protection Agency a Draft Environmental Impact Statement (EIS)/Legislative Environmental Impact Statement (LEIS) for renewal of the Naval Air Weapons Station China Lake public land withdrawal. A Notice of Availability for the Draft EIS/LEIS was published in the Federal Register on August 10, 2012 (77 FR 47839). The public review period for the Draft EIS/LEIS ended on November 8, 2012. This notice announces the availability of additional reference materials and the reopening of the public comment period until February 11, 2013.

SUPPLEMENTARY INFORMATION: With the publication of a Notice of Public Meetings in the Federal Register on August 17, 2012 (77 FR 49784), the DoN and its cooperating agency, the Bureau of Land Management, initiated a 90-day public comment period and held three public open house meetings to receive oral and written comments on the Draft EIS/LEIS and the proposed renewal of the public land withdrawal. The 90-day public comment period ended on November 8, 2012. Public comments received by the DoN during the public comment period indicated that certain key reference materials supporting the environmental impact analysis within the Draft EIS/LEIS were not made available to the public. This notice announces the reopening of the public comment period until February 11, 2013. During this re-opened public comment period, the Draft EIS/LEIS and the additional key reference materials are available for public review at the following libraries:

1. Ridgecrest Public Library, 131 East Las Flores Avenue, Ridgecrest, California 93555.

2. Trona Branch Library, 82805 Mount View, Trona, California 93562.

3. Lone Pine Branch Library, 127 Bush Street, Lone Pine, California 93545.

4. Barstow Branch Library, 304 East Buena Vista Street, Barstow, California 92311.

5. Mojave Public Library, 16916-1/2 State Highway 14, Space D2, Mojave, California 93501.

6. Lancaster Public Library, 601 West Lancaster Boulevard, Lancaster, California 93534.

A paper copy of the Executive Summary or a single compact disc of the Draft EIS/LEIS and additional key reference materials will be made available upon written request.

Federal, state and local agencies and officials, and interested groups and individuals are encouraged to review the key reference documents and provide written comments to the mailing address or through the project web site, both identified immediately below. All comments, whether written or submitted through the project web site during the re-opened public comment period, will become part of the public record on the Draft EIS/LEIS and be considered in preparing the Final EIS/LEIS.

ADDRESSES: Comments may be submitted in writing anytime during the re-opened public comment period to: Naval Facilities Engineering Command, Southwest, ATTN: NAWSCL Land Withdrawal Renewal EIS/LEIS Project Manager (Mr. Gene Beale), 1220 Pacific Highway, San Diego, California 92132-5190; gene.beale@navy.mil. In addition, comments may be submitted through the project Web site: http://www.chinalakeleis.com.

Dated: January 8, 2013.
C.K. Chiappetta,
Lieutenant Commander, Office of the Judge Advocate General, U.S. Navy, Federal Register Liaison Officer.

[FR Doc. 2013-00427 Filed 1-10-13; 8:45 am]

BILLING CODE 3810-FF-P